DEPARTMENT OF HOMELAND SECURITY

Information Analysis and Infrastructure Protection Directorate; National Security Telecommunications Advisory Committee

AGENCY: Department of Homeland Security.

ACTION: Notice of closed meeting.

SUMMARY: A Meeting of the NATIONAL SECURITY TELECOMMUNICATIONS ADVISORY COMMITTEE (NSTAC) will be held via conference call on Thursday, July 15, 2004, from 3:30 p.m. to 4:30 p.m. the NSTAC advises the President of the United States on Issues and Problems Related to Implementing National Security and Emergency Preparedness (NS/EP) Communications Policy. At this meeting, the committee will discuss telecommunications assurance and security issues related to planning for National Security Special Events (NSSES). This meeting will be closed to the public.

Basis for Waiver of 15-Day Notice. Due to critical mission and schedule requirements, There is insufficient time to provide the full 15 calendar days notice in the Federal Register prior to advisory committee meetings, pursuant to the final rule on Federal advisory committee management codified at 41 CFR 102-3.150.

Basis for Closure. The NSSE planning discussion will concern matters sensitive to homeland security within the meaning of 5 U.S.C. 552b(C)(7) and (C)(9)(B). In addition, it is likely to reveal company proprietary information within the meaning of 5 U.S.C. 552b(C)(4). Accordingly, the department has issued a determination that this meeting will be closed.

FOR FURTHER INFORMATION CONTACT: Call Ms. Kiesha Gebreyes, (703) 607-6134, or write the manager, National Communications System, 701 South Court House Road, Arlington, Virginia 22204-2198.

Peter M. Fonash,
Federal Register Certifying Officer, National Communications System, Department of Homeland Security.

[FR Doc. 04-15587 Filed 7-8-04; 8:45 am]

BILLING CODE 4410-10-M